DEPARTMENT OF ENERGY

Federal Energy Regulatory Commission

[Project No. 15043-000]

Craig-Hayden PS, LLC; Notice of Preliminary Permit Application Accepted for Filing and Soliciting Comments, Motions To Intervene, and Competing Applications

On August 20, 2020, Craig-Hayden PS LLC, filed an application for a preliminary permit, pursuant to section 4(f) of the Federal Power Act (FPA), proposing to study the feasibility of the Craig-Hayden Pumped Storage Project (Craig-Hayden Project or project), a closed-loop pumped storage project to be located in Moffat County, Colorado. The sole purpose of a preliminary permit, if issued, is to grant the permit holder priority to file a license application during the permit term. A preliminary permit does not authorize the permit holder to perform any land-disturbing activities or otherwise enter upon lands or waters owned by others without the owners' express permission.

The proposed project would consist of the following: (1) A new 10 to 60-foot-high dam with a total crest length of 8,000 feet, creating a 4,800 acre-foot upper reservoir with a maximum surface elevation of 7,920 feet above mean sea level; (2) one of the two alternatives for a new tunnel and conduit system of steel and/or concrete lined tunnels to connect the upper and lower reservoirs to the powerhouse; (3) three pump-turbine units in an underground powerhouse with generation capacity of 200 megawatts each (total capacity of 600 megawatt) located at an underground cavern; (4) two new dams to create the lower reservoir, with a storage capacity of 4,800 acre-feet, at an elevation of 6,470 feet above mean sea level; (5) an electrical switchyard above the powerhouse and interconnecting transmission lines from the powerhouse to the nearest major transmission interconnection; and (6) appurtenant facilities. The estimated average annual generation of the Craig-Hayden Project would be 1,051,200 megawatt-hours.

Applicant Contact: Matthew Shapiro, Craig-Hayden PS, 800 West Main Street, Suite 1220, Boise, Idaho 83702; phone: (208) 246-9925.

FERC Contact: Khatoon Melick, (202) 502-8433, khatoon.melick@ferc.gov.

Deadline for filing comments, motions to intervene, competing applications (without notices of intent), or notices of intent to file competing applications: 60 days from the issuance of this notice. Competing applications and notices of intent must meet the requirements of 18 CFR 4.36.

The Commission strongly encourages electronic filing. Please file comments, motions to intervene, notices of intent, and competing applications using the Commission's eFiling system at https://ferconline.ferc.gov/FERCOnline.aspx. Commenters can submit brief comments up to 6,000 characters, without prior registration, using the eComment system at https://ferconline.ferc.gov/QuickComment. aspx. You must include your name and contact information at the end of your comments. For assistance, please contact FERC Online Support at FERCOnlineSupport@ferc.gov, (866) 208-3676 (toll free), or (202) 502-8659 (TTY). In lieu of electronic filing, you may submit a paper copy. Submissions sent via the U.S. Postal Service must be addressed to: Kimberly D. Bose, Secretary, Federal Energy Regulatory Commission, 888 First Street NE, Room 1A, Washington, DC 20426. Submissions sent via any other carrier must be addressed to: Kimberly D. Bose, Secretary, Federal Energy Regulatory Commission, 12225 Wilkins Avenue, Rockville, Maryland 20852. The first page of any filing should include docket number P-15043-000.

More information about this project, including a copy of the application, can be viewed or printed on the eLibrary link of Commission's website at https://www.ferc.gov/ferc-online/elibrary/overview. Enter the docket number (P-15043) in the docket number field to access the document. For assistance, contact FERC Online Support.

Dated: November 17, 2020.
Kimberly D. Bose,
Secretary.

[FR Doc. 2020-25979 Filed 11-23-20; 8:45 am]

BILLING CODE 6717-01-P